DEPARTMENT OF HEALTH AND HUMAN SERVICES

National Institutes of Health

Center for Scientific Review; Amended Notice of Meeting

Notice is hereby given of a change in the meeting of the Prokaryotic Cell and Molecular Biology Study Section, June 20, 2012, 8:30 a.m. to June 21, 2012, 5:00 p.m., Hotel Nikko San Francisco, 222 Mason Street, San Francisco, CA, 94102 which was published in the Federal Register on May 24, 2012, 77 FR 31030.

The meeting will be held June 20, 2012, from 8:30 a.m. to 5:00 p.m. The meeting location remains the same. The meeting is closed to the public.

Dated: May 29, 2012.
Jennifer S. Spaeth,
Director, Office of Federal Advisory Committee Policy.

[FR Doc. 2012-13725 Filed 6-5-12; 8:45 am]

BILLING CODE 4140-01-P